DEPARTMENT OF JUSTICE

Antitrust Division

Notice Pursuant to the National Cooperative Research and Production Act of 1993—GENRAC, LLC

Notice is hereby given that, on April 5, 2001, pursuant to Section 6(a) of the National Cooperative Research and Production Act of 1993, 15 U.S.C. 4301 et seq. (“the Act”), GENRAC, LLC has filed written notifications simultaneously with the Attorney General and the Federal Trade Commission disclosing (1) the identities of the parties and (2) the nature and objective of the venture. The notifications were filed for the purpose of invoking the Act's provisions limiting the recovery of antitrust plaintiffs to actual damages under specified circumstances.

Pursuant to Section 6(b) of the Act, the identities of the parties are: GENRAC, LLC, Oak Ridge, TN; Abgenix, Inc., Freemont, CA; and CJ America, Inc., Fort Lee, NJ.

The general area of planned activity is to provide a mechanism for members to utilize the multidisciplinary research and development capabilities of Oak Ridge National Laboratory and the University of Tennessee in order to participate in defined research and development programs in basic functional genomics technology and techniques and to share in the knowledge and benefits of intellectual property developed therefrom.

Constance K. Robinson,
Director of Operations, Antitrust Division.

[FR Doc. 01-17882 Filed 7-17-01; 8:45 am]

BILLING CODE 4410-11-M